DEPARTMENT OF VETERANS AFFAIRS

[OMB Control No. 2900-0696]

Agency Information Collection (Availability of Educational, Licensing, and Certifications Records) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 26, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0696” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0696.”

SUPPLEMENTARY INFORMATION: Title: Availability of Educational, Licensing, and Certifications Records; 38 CFR 21.4209.

OMB Control Number: 2900-0696.

Type of Review: Revision of a currently approved collection.

Abstract: Educational institutions offering approved courses and licensing and certification organizations offering approved tests are required to make their records and accounts pertaining to eligible claimants available to VA. The data collected will be used to ensure benefits paid under the education programs are correct.

An agency may not conduct or sponsor, and a person is not required to respond to a collection of information unless it displays a currently valid OMB control number. The Federal Register Notice with a 60-day comment period soliciting comments on this collection of information was published on May 20, 2013, at pages 29435-29436.

Affected Public: Not-for-profit institutions.

Estimated Annual Burden: 9,600 hours.

Frequency of Response: On occasion.

Estimated Average Burden per Respondents: 5 hours.

Estimated Annual Responses: 4,800.

Dated: August 22, 2013.
By direction of the Secretary.
Crystal Rennie,
VA Clearance Officer, U.S. Department of Veterans Affairs.

[FR Doc. 2013-20870 Filed 8-26-13; 8:45 am]

BILLING CODE 8320-01-P